DEPARTMENT OF COMMERCE

National Oceanic and Atmospheric Administration

Proposed Information Collection; Comment Request; Role of Tournament Fishing in the Development of Fishery Regulations

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before September 9, 2013.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Dr. Brent Stoffle, (305) 951-1212 or brent.stoffle@noaa.gov.

SUPPLEMENTARY INFORMATION:

I. Abstract

This request is for a new information collection.

The National Marine Fisheries Service (NMFS) proposes to conduct a survey to collect demographic, cultural, economic and social information about those that organize and participate in fishing tournaments in the South Atlantic. The survey also intends to inquire about the industry's perceptions, attitudes and beliefs regarding the relationships between tournament organizations and their participants with the development of federal fishery regulations. The data gathered will be used to describe the socio-political impact of tournament fishing in the South Atlantic. The information will be used to identify the ways in which people within the tournament culture are affecting fishery policy and identify the means by which information is disseminated and shared among fishermen and administrators associated with fishing tournaments.

II. Method of Collection

The information sought will be collected via in personal interviews and telephone surveys.

III. Data

OMB Control Number: None.

Form Number: None.

Type of Review: Regular submission (request for a new information collection).

Affected Public: Business or other for-profits organizations; individuals or households.

Estimated Number of Respondents: 100.

Estimated Time per Response: 1 hour.

Estimated Total Annual Burden Hours: 100.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: July 3, 2013.
Gwellnar Banks,
Management Analyst, Office of the Chief Information Officer.

[FR Doc. 2013-16542 Filed 7-9-13; 8:45 am]

BILLING CODE 3510-22-P